DEPARTMENT OF THE INTERIOR

Fish and Wildlife Service

Request for Information and Recommendations on Species To Consider for Changes to the CITES Appendices

AGENCY: Fish and Wildlife Service, Interior.

ACTION: Request for information.

SUMMARY: In order to implement the Convention on International Trade in Endangered Species of Wild Fauna and Flora (CITES), the Parties to the Treaty periodically meet to review which species in international trade should be regulated, and other aspects of implementation of the treaty. We have been informed that the twelfth meeting of the Conference of the Parties to CITES (COP12) will be held in November 2002, in Santiago, Chile. We are, therefore, soliciting recommendations for amending Appendices I and II of CITES at COP12. We invite information and comment from the public on animal and plant species that should be considered as candidates for U.S. proposals to amend CITES Appendix I or II. Such amendments may concern the addition of species to Appendix I or II, the transfer of species from one Appendix to another, or the removal of species from Appendix II. We are also seeking information and comment from the public on the biological and trade status of selected species identified at the end of this notice.

DATES: We will consider all information and comments received by August 13, 2001.

ADDRESSES: Send correspondence concerning this request pertaining to species amendments to: Chief, Division of Scientific Authority; U.S. Fish and Wildlife Service; 4401 North Fairfax Drive, Room 750; Arlington, Virginia 22203-1610, or via E-mail to: fw9ia—dsa@fws.gov. Comments and materials received will be available for public inspection by appointment from 8 a.m. to 4 p.m., Monday through Friday, at the Division of Scientific Authority.

FOR FURTHER INFORMATION CONTACT: Dr. Susan Lieberman, Chief, Division of Scientific Authority, phone 703-358-1708, fax 703-358-2276, E-mail: fw9ia_dsa@fws.gov.

SUPPLEMENTARY INFORMATION:

Background

The Convention on International Trade in Endangered Species of Wild Fauna and Flora, (hereinafter referred to as CITES or the Convention), is an international treaty designed to control and regulate international trade in certain animal and plant species that are now or potentially may become threatened with extinction. These species are listed in the Appendices to CITES. You may obtain copies of the list of CITES species, and the text of the treaty, from the Division of Scientific Authority at the above address, from our web site http://international.fws.gov/, or from the official CITES Secretariat web site at http://www.cites.org/.

Currently 152 countries, including the United States, are Parties (i.e., a country that has acceded to the treaty) to the Convention. The treaty states that a biennial meeting of the Conference of the Parties will be held to consider amendments to the list of species in Appendices I and II, review issues pertaining to CITES implementation, make provisions enabling the CITES Secretariat in Switzerland to carry out its functions, consider reports presented by the Secretariat, and make recommendations for the improved effectiveness of CITES. Any country that is a Party to CITES may propose and vote on amendments to Appendices I and II (species proposals), resolutions, decisions, discussion papers, and agenda items for consideration at biennial meetings of the Conference of the Parties. The text of any proposal must be submitted to the CITES Secretariat at least 150 days before the meeting. The Secretariat must then consult the other Parties and appropriate intergovernmental agencies, and communicate their responses to all Parties no later than 30 days before the meeting.

This is the first in a series of Federal Register notices that, together with announced public meetings, provide an opportunity for the public to participate in the development of the United States negotiating positions for the twelfth regular meeting of the Conference of the Parties to CITES (COP12). Our regulations governing this public process are found in 50 CFR 23.31-23.39. We have been informed that COP12 will be held in November 2002, in Santiago, Chile.

Request for Information and Comments

One of the purposes of this first notice is to solicit information that will help us identify species that the United States should propose as candidates for addition, removal, or reclassification in the CITES Appendices, or to identify issues warranting attention by the CITES Nomenclature Committee. This request is not limited to species occurring in the United States. Any Party may submit proposals concerning animal or plant species occurring in the wild anywhere in the world. We encourage the submission of information on species for possible inclusion in the Appendices if these species are subject to international trade that may be detrimentally impacting the status of the species. Complete proposals are not being requested at this time, but are always welcome. Rather, we are asking interested persons to submit convincing information describing: (1) The status of the species, especially trend information; (2) conservation and management programs for the species, including the effectiveness of enforcement efforts; and (3) the level of domestic as well as international trade in the species, especially trend information. Any other relevant information can also be provided. References are appreciated.

The term “species” is defined in CITES as “any species, sub-species, or geographically separate population thereof.” Each species for which trade is controlled is included in one of three Appendices, either as a separate listing or incorporated within the listing of a higher taxon. The basic standards for inclusion of species in the Appendices are contained in Article II of CITES. Appendix I includes species threatened with extinction that are or may be affected by trade. Appendix II includes species that, although not necessarily now threatened with extinction, may become so unless trade in them is strictly controlled. Appendix II also lists species that must be subject to regulation in order that trade in other CITES-listed species may be brought under effective control. Such listings frequently are required because of difficulty in distinguishing specimens of currently or potentially threatened species from other species at ports of entry. Appendix III includes species that any Party country identifies as being subject to regulation within its jurisdiction for purposes of preventing or restricting exploitation and for which it needs the cooperation of other Parties to control trade. Since species are listed in Appendix III unilaterally by any country, we are not seeking input on possible U.S. Appendix-III listings in this Notice.

CITES specifies that international trade in any readily recognizable part or derivative of animals listed in Appendix I or II, or plants listed in Appendix I, is subject to the same conditions that apply to trade in the whole organism. With certain standard exclusions formally approved by the Parties, the same applies to the readily recognizable parts and derivatives of most plant species listed in Appendix II. Parts and derivatives usually not included (i.e., not regulated) for Appendix-II plants are: Seeds, spores, pollen (including pollinia), and seedling or tissue cultures obtained in vitro and transported in sterile containers. You may refer to 50 CFR 23.23(d), and the October 6, 1995, Federal Register (60 FR 52450) and February 22, 1996, Federal Register (61 FR 6793) for further exceptions and limitations.

In 1994, the CITES Parties adopted criteria for inclusion of species in Appendices I and II (in Resolution Conf. 9.24). These criteria apply to all listing proposals and are available from the CITES Secretariat web site (http://www.cites.org/), or upon request from the Division of Scientific Authority (see ADDRESSES section above). Resolution Conf. 9.24 also established a format for complete proposals.

What Information Should Be Submitted?

In response to this Notice, to provide us information on species subject to international trade for possible proposals to amend the Appendices, please include as much of the following information as possible in your submission:

(1) Scientific name and common name;

(2) Population size estimates (including references if available);

(3) Population trend information;

(4) Threats to species status (other than from trade);

(5) Level/trend of international trade (as specific as possible but without a request for new searches of Service records);

(6) Level/trend in total take from the wild (as specific as reasonable); and

(7) Short summary statement clearly presenting the rationale for inclusion in or delisting from one of the Appendices, including which of the criteria in Resolution Conf. 9.24 are met.

If you wish to submit more complete proposals for us to consider, please consult Resolution Conf. 9.24 for the format for proposals and a detailed explanation of each of the categories. Proposals to transfer a species from Appendix I to Appendix II, or to remove a species from Appendix II, must also be in accordance with the precautionary measures described in Annex 4 of Resolution Conf. 9.24. If you have information and comments on species that are potential candidates for CITES proposals, we encourage you to contact our Division of Scientific Authority.

What Will We Do With the Information We Receive?

One important function of the CITES Scientific Authority of each country is the monitoring of international trade in plant and animal species, and ongoing scientific assessments of the impact of that trade on species. For native U.S. species, we monitor trade and export permits we authorize, to be assured that trade remains sustainable (for Appendix-II species). We also work closely with our States, to be assured that species are correctly listed in the CITES Appendices (or not listed, if a listing is not warranted). We actively seek information about U.S. and foreign species subject to international trade. The information submitted will help us monitor trade and its impact, as well as help us decide if we should submit or co-sponsor a proposal to amend the CITES Appendices. However, there may be species that qualify for CITES listing for which we decide not to submit a proposal to COP12. Our decision will be based on a number of factors, including scientific and trade information, whether or not the species is native to the United States and, for foreign species, whether or not a proposal is supported or co-sponsored by at least one range country for the species. We will consult range countries for foreign species, and for species we share with other countries, subsequent to receiving and analyzing the information provided by the public. The lists that follow includes species that we are considering based on our monitoring efforts since COP11. Proposals for some of the species on this list were submitted or co-sponsored by the United States at COP11, but were not adopted for a number of reasons. We encourage the submission by the public of any new scientific or trade information on these species so that we can decide if we will re-submit proposals for them (or not). Including a species here does not mean that we will necessarily submit a proposal for it. For native U.S. species, we will share information provided to us with the States, to assist them with their management of the species, and to enable a productive State-Federal dialogue on whether or not CITES listing would assist the States in the conservation of these species.

There may be species which meet the criteria for CITES Appendix I or II but do not appear in the lists below because of inadequate or anecdotal information in our records. We will continue to consult with other Federal and State agencies, academia, the public, and other countries to obtain information on additional species that may qualify for CITES listing and will report our findings in subsequent Federal Register notices prior to COP12.

What Species Are We Considering for Proposals, and for Which Species Are We Requesting Additional Information?

Animals

We solicit information on the biological and trade status of the following taxa, and whether or not they meet the CITES criteria for listing in Appendix II:

Species or taxon | Geographic scope | Rationale
Poecilotheria spp. (Eastern Hemisphere tarantulas) | India, Sri Lanka | Over-harvest for international pet trade. Proposed at COP 11.
Rhincodon typus (whale shark) | Globally, in tropical and sub-tropical waters | Vulnerable life history; unsustainable harvest rates for international fin markets. Proposed at COP 11.
Crotalus horridus (timber rattlesnake) | U.S.A. | Possible over-harvest for skin and pet trades. Proposed at COP 11, but withdrawn.
Crotalus adamanteus (eastern diamondback rattlesnake) | U.S.A. | Potential for periodic over-harvest for skin trade.
Lampropeltis zonata (California mountain kingsnake) | U.S.A. | Possible over-harvest for pet trade; similarity of appearance issues.
Clemmys guttata (spotted turtle) | U.S.A. | Possible over-harvest for pet trade and export. Proposed at COP 11, but not adopted.
Apalone spinifera, A. mutica, A. ferox (North American softshell turtles) | U.S.A. | Possible over-harvest for international food trade.
Asian freshwater turtles and tortoises (e.g., Carettochelys insculpta, Chinemys spp., Chitra spp., Heosemys spp., Mauremys spp., Amyda cartilagina, Kachuga spp., Orlitia borneensis, Pyxidea mouhotii, Chelodina spp., Pelochelys spp.) | Asia | Over-harvest for international food and pet trades, and similarity of appearance issues.

We solicit information on the biological and trade status of the following species, and whether or not it meets the CITES criteria for removal from Appendix II:

Species | Geographic scope | Rationale
Cnemidophorus hyperythrus (orange-throated whiptail lizard) | U.S.A. | Little international trade and threat to species in the wild.

We solicit information on the biological and trade status of the following taxa, and whether or not they meet the CITES criteria for transfer to or listing in Appendix I:

Species or taxon | Geographic scope | Rationale
Asian freshwater turtles and tortoises (e.g., Callagur borneoensis, Chelodina mccordi, Chitra chitra, Cuora spp., Geochelone platynota, Heosemys yuwonoi, Manouria spp.) | Asia | Over-harvest for international food and pet trades, and similarity of appearance issues.
Chamaeleo (=Calumma) parsonii (Parson's chameleon) | Madagascar | Possible over-harvest for international pet trade.
Pyxis spp. (Madagascar spider tortoises) and Erymnochelys madagascariensis (Madagascar big-headed turtle) | Madagascar | Over-harvest for international pet trade.
Corucia zebrata (Solomon Island skink) | Solomon Islands | Over-harvest for international pet trade.
Uromastyx spp. (spiny-tailed lizards) | Africa | Over-harvest of some species for international pet trade.
Cacatua sulphurea (lesser sulphur-crested cockatoo) | Indonesia | Over-harvest for international pet trade, and lack of development of a management plan for sustainable use.
Manis crassicaudata, M. javanica, M. pentadactyla (Asian pangolins) | South and Southeast Asia | Over-harvest for international skin and medicinal trade.
Tursiops truncatus ponticus (bottlenose dolphin) | Black Sea/Sea of Azov population | Over-harvest, pollution, habitat degradation.
Moschus spp. (musk deer) | Asia (Russian Federation, China, Korea, Mongolia, Himalayan countries) | Over-harvest for international perfume and medicinal trade.
Saiga tatarica (saiga) | Asia (Russian Federation and Kazakhstan) | Over-exploitation for meat and horns.

Plants

We are seeking additional information on the biological and trade status of the following North American cacti, and whether they qualify for transfer to Appendix I due to possible unsustainable trade in individual species or seeds collected from the wild:

Species | Geographic scope | Current status
Sclerocactus nyensis | U.S.A. (Arizona) | Appendix II.
Sclerocactus parviflorus | U.S.A. (Nevada) | Appendix II.
Sclerocactus sileri | U.S.A. (Arizona) | Appendix II.
Sclerocactus spinosior ssp. blainei | U.S.A. (Nevada, Utah) | Appendix II.

At COP11 the following plant species were proposed by Switzerland on behalf of the Plants Committee for transfer from Appendix I to II or for removal from Appendix II. However, these proposals were not adopted due to lack of consensus regarding the proposed actions. We are seeking additional information on the biological and trade status of the following taxa, and whether they qualify for transfer to Appendix II or for removal from Appendix II.

Species | Geographic scope | Current status
Dudleya traskiae (Santa Barbara Dudleya) | U.S.A. (California) | Appendix I.
Lewisia maguirei (Maguire's bitter-root) | U.S.A. (Nevada) | Appendix II.
Lewisia serrata (Saw-toothed Lewisia) | U.S.A. (California) | Appendix II.
Sclerocactus mariposensis | U.S.A. (Texas) | Appendix I.
Shortia galacifolia (O'conee-Bells) | U.S.A. (Appalachian Mountains) | Appendix II.

We are seeking additional biological and trade information on the following taxa native to the United States, and whether or not they meet the CITES criteria for listing in Appendix II:

Species or taxon | Geographic scope | Rationale
Cimicifuga (=Actaea) racemosa, C. (=Actaea) americana (black cohosh) | U.S.A. (Eastern states) | Suspected over-harvest for export.
Echinacea spp. (coneflower) | U.S.A. (Eastern and Midwestern states) | Suspected over-harvest for export.
Olneya tesota (ironwood) | U.S.A (Arizona and California), Mexico | Suspected unsustainable harvest in Mexico for import to the United States.
Sanguinaria canadensis (bloodroot) | U.S.A. (Eastern states) | Suspected over-harvest for export.

We are soliciting additional information on the following species native to the United States and Canada that are used in the floral and horticulture markets. In particular, we solicit information on the biological and trade status of these taxa, and whether or not they meet the CITES criteria for listing in Appendix II:

Species | Geographic scope
Antitrichia curtipendula (hanging moss) | U.S.A. and Canada (Oregon, Washington, Alaska, and British Columbia).
Eurhynchium oreganum (=Kindbergia oregana) (Oregon beaked moss) | U.S.A. and Canada (Oregon, Washington, and British Columbia).
Hypnum curvifolium, H. impogens (log moss) | U.S.A. (Eastern states).
Isothecium myosuroides (Cat-tail moss) | U.S.A. and Canada (Oregon, Washington, Alaska, and British Columbia).
Meteaneckera menziesii (Menzies' neckera) | U.S.A. and Canada (Oregon, Washington, Alaska, and British Columbia).
Neckera douglasii (Douglas' neckera) | U.S.A. and Canada (Oregon, Washington, and British Columbia).
Rhytidiadelphus loreus (lanky moss), R. riquetrus (cat's tail moss) | U.S.A. and Canada (Oregon, Washington, Alaska and British Columbia).
Thuidium delicatum (log moss) | U.S.A. (Eastern states).

We are soliciting additional information on the following species native to the United States and Canada that are used in the herbal medicinal market. In particular, we solicit information on the biological and trade status of these taxa, and whether or not they meet the CITES criteria for listing in Appendix II.

Species | Geographic scope
Caulophyllum thalictroides (blue cohosh) | U.S.A. and Canada (New Brunswick).
Dioscorea villosa (wild yam) | North and Central America.
Drosera spp. (sundews) | U.S.A. and Canada.
Ligusticum porteri (osha) | U.S.A. (Western states).
Rhamnus (=Frangula) purshiana (cascara sagrada) | U.S.A. and Canada (Western states and B.C.).
Tricholoma magnivelare (American matsutake mushroom) | U.S.A. (California, Oregon, and Washington).
Trillium erectum (Beth root) | U.S.A. (Eastern states).
Usnea sp. (tree lichen) | U.S.A.

We are seeking additional information on the following species not native to the United States. In particular, we solicit information on the biological and trade status of these taxa, and whether or not they meet the CITES criteria for listing in Appendix II.

Species | Geographic scope
Guaiacum coulteri (Guayacan, used for timber) | Mexico.
Taxus chinensis, Taxus celebica, Taxus cuspidata, Taxus fuana, Taxus yunnanensis (a tree, used medicinally) | Eurasia.
Uncaria guianensis and Uncaria tomentosa (cat's claw, a medicinal plant) | Peru.

We also welcome information and comment from the public on tree species. Many trees are traded in large volumes and have high value and may, therefore, be of conservation concern.

Future Actions

The next regular meeting of the Conference of the Parties (COP12) is expected to be held in November 2002 in Chile, and we have developed a tentative schedule to prepare for it. Any proposals to amend Appendix I or II must be submitted by the United States to the CITES Secretariat 150 days prior to the start of COP12 (i.e., in June 2002). We are initiating this request for status and trade information on species with ample time to seek greater involvement of State wildlife and natural resource agencies and the public in the review process. Thus, after this initial request for species to consider, the State animal and plant conservation agencies will be asked for specific status and management information on those native species that warrant further consideration. After review of any information received, we will make some preliminary decisions and will seek assistance in developing more complete proposals during the summer and fall of 2001.

We plan to publish a Federal Register notice in December 2001 to announce tentative species proposals to be submitted by the United States and to solicit further information and comments on them, as well as to provide summary comments on information provided in response to this notice. In January 2002, we plan to hold a public meeting to allow for additional input. We will consult all CITES Parties within the geographic range of species we are considering proposing for amendments to the Appendices by March 2002, so that final proposals will have the benefit of their consideration and comments. This is consistent with CITES Resolution Conf. 8.21. Another Federal Register notice in July 2002 will announce our final decisions and those species proposals submitted by the United States to the CITES Secretariat.

Through a series of additional notices in advance of COP12, we will solicit recommendations for possible agenda items and resolutions designed to improve the implementation of the Convention, inform the public about preliminary and final negotiating positions on resolutions and amendments to the Appendices proposed by other Parties for consideration at COP12, and explain how observer status is obtained for non-governmental organizations that plan to attend. We will also publish announcements of public meetings expected to be held in January 2002 and August 2002, to receive public input on U.S. positions regarding COP12 issues.

Authors: This notice was prepared by staff of the Division of Scientific Authority.

Dated: May 22, 2001.
Marshall P. Jones, Jr.,
Acting Director.

[FR Doc. 01-14807 Filed 6-11-01; 8:45 am]

BILLING CODE 4310-55-U